ENVIRONMENTAL PROTECTION AGENCY

[FRL-9220-9]

Announcement of Local Government Advisory Committee Members

AGENCY: Environmental Protection Agency.

ACTION: Notice.

SUMMARY: The U.S. Environmental Protection Agency announces that Administrator Lisa P. Jackson has appointed 29 local, State, and Tribal elected and appointed officials from across the country to serve on the EPA's Local Government Advisory Committee (LGAC). The Committee's purpose will be to give advice and recommendations on a broad range of environmental issues affecting local governments.

These new appointments include:

Mayors (Large Cities)

Phil Gordon, Mayor, Phoenix, Arizona.

John W. Hickenlooper, Mayor, Denver, Colorado.

Mayors (Moderate Sized Cities)

Jennifer Hosterman, Mayor, Pleasanton, California.

Terry Bellamy, Mayor, Asheville, North Carolina.

Elizabeth Kautz, Mayor, Burnsville, Minnesota.

Teresa Coons, Mayor, Grand Junction, Colorado.

Dana L. Redd, Mayor, Camden, New Jersey.

Mayors (Small Cities and Towns)

Bob Dixson, Mayor, Greensburg, Kansas.

Marilyn Murrell, Mayor, Arcadia, Oklahoma.

Ronald K. Davis, Mayor, Prichard, Alabama.

Adam Ortiz, Mayor, Edmonston, Maryland.

Heather McTeer Hudson, Mayor, Greenville, Mississippi.

Carolyn Peterson, Mayor, Ithaca, New York.

Lisa A.Wong, Mayor, Fitchburg, Massachusetts.

David W. Smith, Mayor, Newark, California.

Tribal (Elected and Appointed)

Steve Ortiz, Chairman Prairie Band Potawatomi Nation, Kansas.

Aaron Miles, Manager at Nez Perce Tribe, Idaho.

Commonwealth

Evelyn Delereme Camacho, Mayor, Municipality of Vieques, Puerto Rico.

County Executive

Tom Hickner, County Executive, Bay County, Michigan.

County Commissioners

*Dave Somers, Councilor, Snohomish County, Washington.

Robert Cope, Commissioner, Lemhi County, Idaho.

Salud Carbajal, Supervisor, Santa Barbara County, California.

Conservation Districts

Jeffrey Tiberi, Director of Montana Association of Conservation Districts, Helena, Montana.

City Councilmember

Jill Duson, Councilor, Portland, Maine.

State Elected Officials

Mary Margaret Whipple, State Senator, Commonwealth of Virginia.

Chris Ross, State Representative 158th District, Harrisburg, Pennsylvania.

County Judge

Edward M. Emmett, Harris County Judge, Houston, Texas.

Appointed Officials

Dr. Hector Gonzalez, Director, Laredo, Texas Health Dept.

Susan Hann, Deputy City Manager, Palm Bay, Florida

(*Formerly served one term on LGAC).

If you desire further information go to: at http://www.epa.gov/ocir/scas or contact the Designated Federal Officer (DFO), Eargle.Frances@epa.gov.

Dated: October 29, 2010.
Frances Eargle,
Designated Federal Officer, Local Government Advisory Committee.

[FR Doc. 2010-27877 Filed 11-3-10; 8:45 am]

BILLING CODE 6560-50-P